INTERNATIONAL TRADE COMMISSION

[Investigation No. 332-469]

Conditions of Competition for Certain Oranges and Lemons in the U.S. Fresh Market

AGENCY: United States International Trade Commission.

ACTION: Correction of notice of investigation.

SUMMARY: The Commission's notice published in the Federal Register on August 8, 2005 (70 FR 45746) contained a typographical error that incorrectly identified “February 21, 2005” as the final date for receipt of any written submissions to the United States International Trade Commission regarding investigation No. 332-469 Conditions of Competition for Certain Oranges and Lemons in the U.S. Fresh Market, under section 332(g) of the Tariff Act of 1930 (19 U.S.C. 1332(g)). The correct date for written submissions on this investigation is February 21, 2006.

By order of the Commission.
Issued: August 11, 2005.
Marilyn R. Abbott,
Secretary to the Commission.

[FR Doc. 05-16341 Filed 8-17-05; 8:45 am]

BILLING CODE 7020-02-P